FEDERAL COMMUNICATIONS COMMISSION

[Report No. 2647]

Petitions for Reconsideration and Clarification of Action in Rulemaking Proceedings

February 23, 2004.

Petitions for Reconsideration and Clarification have been filed in the Commission's Rulemaking proceeding listed in this Public Notice and published pursuant to 47 CFR Section 1.429(e). The full text of this document is available for viewing and copying in Room CY-A257, 445 12th Street, SW., Washington, DC or may be purchased from the Commission's copy contractor, Qualex International (202) 863-2893. Oppositions to these petitions must be filed by March 16, 2004. See Section 1.4(b)(1) of the Commission's rules (47 CFR 1.4(b)(1)). Replies to an opposition must be filed within 10 days after the time for filing oppositions have expired.

Subject: In the Matter of the Review of Part 15 and other Parts of Commission's Rules (ET Docket No. 01-278, RM-9375, RM-10051)

Amendment of Parts 2 and 15 of the Commission's Rules to Deregulate the Equipment Authorization Requirements for Digital Devices (ET Docket No. 95-19).

Number of Petitions Filed: 2.

Marlene H. Dortch,
Secretary.

[FR Doc. 04-4454 Filed 2-27-04; 8:45 am]

BILLING CODE 6712-01-M